DEPARTMENT OF THE INTERIOR

National Park Service

[NPS-WASO-NAGPRA-NPS0040241; PPWOCRADN0-PCU00RP14.R50000]

Notice of Inventory Completion: Tennessee Department of Environment and Conservation Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects and has determined that there is a cultural affiliation between the human remains and associated funerary objects and Indian Tribes or Native Hawaiian organizations in this notice.

DATES: Repatriation of the human remains and associated funerary objects in this notice may occur on or after July 3, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email phil.hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, seven individuals and 15 associated funerary objects have been identified.

Site 40LA26, Lauderdale County, TN

Human remains representing, at least, one individual and one lot of associated funerary objects consisting of unanalyzed faunal material. No information is available regarding the collection or donation of these materials. There is no known exposure to hazardous substances or treatments.

Unknown Sites, Lauderdale County, TN

Human remains representing, at least, two individuals and 12 associated funerary objects. Ancestral remains of one individual were donated to the Tennessee State Museum (TSM 8.571.1, TSM 8.571B) and transferred to TDEC-DOA in 2021, along with one associated funerary object consisting of a ceramic urn. Ancestral remains of at least one individual were donated to TDEC-DOA in 1979 along with 11 associated funerary objects consisting of 10 ceramic vessels and one stone gorget. No additional information is available regarding the circumstances of collection or location of origin. There is no known exposure to hazardous substances or treatments.

Unknown Site, Shelby County, TN

Human remains representing, at least, one individual. These remains were donated by the Shelby County Medical Examiner Regional Forensic Center to TDEC-DOA in 2006. No information is available on the original archaeological context of these materials or circumstances surrounding their collection. There is no known exposure to hazardous substances or treatments.

Unknown Sites, Tipton County, TN

Human remains representing, at least, three individuals and two lotted associated funerary objects. Ancestral remains at least, one individual was donated to TDEC-DOA by a private museum in 2022. No information is available on the original archaeological context of these materials or circumstances surrounding their collection. Ancestral remains of, at least, two individuals, one lot of associated funerary objects consisting of faunal material, and one lot of associated funerary objects consisting of lithic material found eroding from the bank of the Hatchie River were donated to TDEC-DOA by a private individual in 2024. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of seven individuals of Native American ancestry.

• The 15 associated funerary objects described in this notice are reasonably believed to have been placed intentionally with or near individual human remains at the time of death or later as part of the death rite or ceremony.

• There is a connection between the human remains and associated funerary objects described in this notice and the Quapaw Nation and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 3, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10013 Filed 6-2-25; 8:45 am]

BILLING CODE 4312-52-P